ENVIRONMENTAL PROTECTION AGENCY

40 CFR Part 180

[EPA-HQ-OPP-2002-0043; FRL-8376-1]

Pesticide Tolerance Nomenclature Changes; Technical Amendments

AGENCY: Environmental Protection Agency (EPA).

ACTION: Final rule; Technical Amendments.

SUMMARY: This document makes minor technical revisions to the terminology of certain commodity terms listed under 40 CFR part 180, subparts A, C, and E. EPA is taking this action to establish a uniform listing of commodity terms throughout part 180.

DATES: This regulation is effective October 10, 2008. Objections and requests for hearings must be received on or before December 9, 2008, and must be filed in accordance with the instructions provided in 40 CFR part 178 (see also Unit I.C. of the SUPPLEMENTARY INFORMATION ).

ADDRESSES: EPA has established a docket for this action under docket identification (ID) number EPA-HQ-OPP-2002-0043. To access the electronic docket, go to http://www.regulations.gov, select “Advanced Search,” then “Docket Search.” Insert the docket ID number where indicated and select the “Submit” button. Follow the instructions on the regulations.gov website to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Stephen Schaible, Registration Division (7505P), Office of Pesticide Programs, Environmental Protection Agency, 1200 Pennsylvania Ave., NW., Washington, DC 20460-0001; telephone number: (703) 308-9362; e-mail address: schaible.stephen@epa.gov.

SUPPLEMENTARY INFORMATION:

I. General Information

A. Does this Action Apply to Me?

You may be potentially affected by this action if you are an agricultural producer, food manufacturer, or pesticide manufacturer. Potentially affected entities may include, but are not limited to those engaged in the following activities:

• Crop production (NAICS code 111).

• Animal production (NAICS code 112).

• Food manufacturing (NAICS code 311).

• Pesticide manufacturing (NAICS code 32532).

This listing is not intended to be exhaustive, but rather to provide a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing an electronic copy of this Federal Register document through the electronic docket at http://www.regulations.gov, you may access this Federal Register document electronically through the EPA Internet under the “Federal Register” listings at http://www.epa.gov/fedrgstr. You may also access a frequently updated electronic version of EPA's tolerance regulations at 40 CFR part 180 through the Government Printing Office's pilot e-CFR site at http://www.gpoaccess.gov/ecfr.

C. Can I File an Objection or Hearing Request?

Under section 408(g) of FFDCA, any person may file an objection to any aspect of this regulation and may also request a hearing on those objections. You must file your objection or request a hearing on this regulation in accordance with the instructions provided in 40 CFR part 178. To ensure proper receipt by EPA, you must identify docket ID number EPA-HQ-OPP-2002-0043 in the subject line on the first page of your submission. All requests must be in writing, and must be mailed or delivered to the Hearing Clerk as required by 40 CFR part 178 on or before December 10, 2008.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit this copy, identified by docket ID number EPA-HQ-OPP-2002-0043, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

II. Background

A. What Action is the Agency Taking?

EPA's Office of Pesticide Programs (OPP) has developed a commodity vocabulary database entitled “Food and Feed Commodity Vocabulary.” The database was developed to consolidate all the major OPP commodity vocabularies into one standardized vocabulary. As a result, all future pesticide tolerances issued under 40 CFR part 180 will use the “preferred commodity term” as listed in the aforementioned database. Previously, seven documents in a series of documents revising the terminology of commodity terms currently in tolerances in 40 CFR part 180 have been published. Final Rules, revising pesticide tolerance nomenclature, were published in the Federal Register on June 19, 2002 (67 FR 41802) (FRL-6835-2); June 21, 2002 (67 FR 42392) (FRL-7180-1); July 1, 2003 (68 FR 39428) (FRL-7308-9) and (68 FR 39435)(FRL-7316-9); December 13, 2006 (71 FR 74802) (FRL-8064-3); and September 18, 2007 (72 FR 53134)(FRL-8126-5); corrected on October 31, 2007 (72 FR 61535)(FRL-8151-4).

In the Federal Register of June 18, 2008 (73 FR 34678), EPA issued a proposed rule proposing to revise the terminology for certain commodity terms in 40 CFR part 180, subparts A, C and E. The issuance of this document finalizes the changes proposed in the June 18, 2008 issue of the Federal Register. EPA is making the following format changes to the terminology of the commodity terms in 40 CFR part 180 to the extent the terminology is not already in this format:

1. The first letter of the commodity term is capitalized. All other letters, including the first letter of proper names, are changed to lower case.

2. Commodity terms are listed in the singular, although there are the following exceptions: leaves, roots, tops, greens, hulls, vines, fractions, shoots, and byproducts.

3. Commodity terms are amended so that generic terms precede modifying terms. Example - Aspirated grain fractions is replaced with Grain, aspirated fractions.

4. Crop group terms are revised to standardize with the “Food and Feed Commodity Vocabulary.” Examples are:

• Vegetable, leafy greens, except Brassica, group 4 is replaced with Vegetable, leafy, except brassica, group 4.

• Legume vegetables, succulent or dried (except soybean) is replaced with Vegetable, legume, group 6, except soybean.

• Vegetable, legume, edible podded, subgroup is replaced with Vegetable, legume, edible podded, subgroup 6A.

B. Additional Changes

In addition to format changes to the commodity terms, this document also revises certain commodity terms in 40 CFR part 180, subpart C and one change in subpart E. These revisions would replace certain commodity terms that are no longer used by EPA with the appropriate matching term in the “Food and Feed Commodity Vocabulary.” For example:

1. Cotton, oil and Peanut oil are replaced with Cotton, refined oil and Peanut, refined oil.

2. Cacao and Cacao bean are replaced with Cacao bean, bean.

3. Coffee and Coffee, bean are replaced with Coffee, bean, green.

4. Coffee, postharvest is replaced with Coffee, bean, roasted bean, postharvest.

5. Corn, field, grain, flour is replaced with Corn, field, flour.

6. Date is replaced with Date, dried fruit.

7. Grass, fodder is replaced with Grass, straw.

8. Guar is replaced with Guar, seed.

9. Hop is replaced with Hop, dried cones.

10. Mulberry, Indian is replaced with Noni.

11. Oat milling fractions (except flour) and Oat, milled fractions (except flour) are replaced with Oat, groats/rolled oats.

12. Pea, vines is replaced with Pea, field, vines.

13. Peavine, hay is replaced with Pea, field, hay.

14. Soybean, aspirated grain fractions is replaced with Grain, aspirated fractions.

15. Wheat, grain, milled byproducts and Wheat, milled feed fractions are replaced with Wheat, milled byproducts.

16. In § 180.2003, the commodity term “eggs” is changed to “egg.” This change was not included in the June 2008 proposed rule, however, EPA has previously made this same change throughout subparts A and C, therefore, this amendment merely conforms subpart E to changes that have already been made to the terminology in part 180.

In certain instances, more than one replacement commodity term exists in the “Food and Feed Commodity Vocabulary” for the older commodity terms in 40 CFR part 180, subpart C. For example, the preferred commodity terms for Grass are Grass, forage and Grass, hay. Certain revisions included in this document were made by choosing a replacement commodity term from the “Food and Feed Commodity Vocabulary” based on the old commodity term and existing tolerances for related food or feed commodities. These changes are specific to the amended sections and paragraphs in 40 CFR part 180, supbart C. For example:

In § 180.154(a) the commodity term Alfalfa is replaced with Alfalfa, forage. Alfalfa, forage and Alfalfa, hay are preferred commodity terms for Alfalfa. Alfalfa, forage was chosen to replace Alfalfa since tolerances are established for Alfalfa, hay.

In § 180.121(e), Beet (with or without tops) is replaced with Beet, garden, roots. Beet, garden, roots and Beet, garden, tops are the preferred commodity terms for Beet (with or without tops). Beet, garden, roots was chosen since a tolerance is established for Beet, garden, tops. In § 180.408(a), Beet, garden is replaced with Beet, garden, roots. A tolerance is established for Beet, garden, tops.

In § 180.154(a), Birdfoot trefoil is replaced with Trefoil, forage. Trefoil, forage and Trefoil, hay are the preferred commodity terms for Birdfoot trefoil. Trefoil, forage was chosen since a tolerance is established for Trefoil, hay.

In § 180.154(a), Clover is replaced with Clover, forage. Clover, forage and Clover, hay are preferred commodity terms for Clover. Clover, forage was chosen since tolerances are established for Clover, hay.

In § 180.288(a), the commodity term Corn, forage is replaced with Corn, field, forage. Corn, field, forage, and Corn, sweet, forage are preferred commodity terms for Corn, forage. Since there are no tolerances for sweet corn forage, Corn, field, forage was chosen to replace Corn, forage.

In § 180.111(a)(1) the commodity term Grass is replaced with Grass, forage. The preferred terms for Grass are Grass, forage and Grass, hay. Grass, forage was chosen since tolerances are established for Grass, hay.

In § 180.121(e), Rutabagas (with or without tops) is replaced with Rutabaga, roots. Rutabaga, roots and Rutabaga, tops are the preferred terms for Rutabagas (with or without tops). Rutabaga, roots was chosen since a tolerance is established for Rutabaga tops.

In § 180.121(e), Turnip (with or without tops) is replaced with Turnip, roots since a tolerance is established for Turnip, greens.

This document also deletes certain terms that are not needed to identify the tolerance commodities.

Examples:

1. The term Peanut, meat (hulls removed) is changed to Peanut.

2. The term Banana, pulp (no peel) is changed to Banana, pulp.

3. The commodity term Peach (includes nectarines) is changed to Peach; the “Food and Feed Commodity Vocabulary” uses the term Peach to include peach and nectarines.

4. The terms Horseradish, roots and Potato, tuber are changed to Horseradish and Potato, respectively.

5. The terms Garlic, bulb and Garlic (bulb) are changed to Garlic.

6. The terms Plum (fresh) and Pineapple, fresh are changed to Plum and Pineapple, respectively.

III. Statutory and Executive Order Reviews

This document makes technical amendments to the Code of Federal Regulations which have no substantive impact on the underlying regulations, and does not otherwise impose or amend any requirements. As such, the Office of Management and Budget (OMB) has determined that a technical amendment is not a “significant regulatory action” subject to review by OMB under Executive Order 12866, entitled Regulatory Planning and Review (58 FR 51735, October 4, 1993). Because this final rule has been exempted from review under Executive Order 12866 due to its lack of significance, this rule is not subject to Executive Order 13211, Actions Concerning Regulations That Significantly Affect Energy Supply, Distribution, or Use (66 FR 28355, May 22, 2001). This rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). The Regulatory Flexibility Act (RFA) (5 U.S.C. 601 et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's rule on small entities, I certify that this action will not have a significant economic impact on a substantial number of small entities. These technical amendments to the Code of Federal Regulations have no substantive impact on the underyling regulations. These technical amendments will not have any negative economic impact on any entities, including small entities. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This rule directly regulates growers, food processors, food handlers and food retailers, not States. This action does not alter the relationships or distribution of power and responsibilities established by Congress in the preemption provisions of section 408(n)(4) of the FFDCA. For these same reasons, the Agency has determined that this rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This rule will not have substantial direct effects on tribal governments, on the relationship between the Federal Government and Indian tribes, or on the distribution of power and responsibilities between the Federal Government and Indian tribes, as specified in Executive Order 13175. Thus, Executive Order 13175 does not apply to this rule.

List of Subjects in 40 CFR Part 180

Environmental protection, Administrative practice and procedure, Agricultural commodities, Pesticides and pest, Reporting and recordkeeping requirements.

Dated: September 24, 2008.
Debra Edwards,
Director, Office of Pesticide Programs.

Therefore, 40 CFR chapter I, part 180 is amended as follows:

PART 180—[AMENDED]

1. The authority citation for part 180 continues to read as follows:

Authority: 21 U.S.C. 321(q), 346a, and 371.

2. Section 180.1 is amended by revising the table to paragraph (g) to read as follows:

§ 180.1 Definitions and interpretations.

* * * * *

(g) * * *

A | B
Alfalfa | Medicago sativa L. Subsp. sativa, (alfalfa, lucerne); Onobrychis viciifolia Scop. (sainfoin, holy clover, esparcet); and Lotus corniculatus L. (trefoil); and varieties and/or hybrids of these.
Banana | Banana, plantain.
Bean | Cicer arietinum (chickpea, garbanzo bean); Lupinus spp. (including sweet lupine, white sweet lupine, white lupine, and grain lupine). Phaseolus spp. (including kidney bean, lima bean, mung bean, navy bean, pinto bean, snap bean, and waxbean; Vicia faba (broad bean, fava bean); Vigna spp. (including asparagus bean, blackeyed pea and cowpea).
Bean, dry | All beans above in dry form only.
Bean, succulent | All beans above in succulent form only.
Blackberry | Rubus eubatus (including bingleberry, black satin berry, boysenberry Cherokee blackberry, Chesterberry, Cheyenne blackberry, coryberry, darrowberry, dewberry, Dirksen thornless berry, Himalayaberry, hullberry, Lavacaberry, lowberry, Lucretiaberry, mammoth blackberry, marionberry, nectarberry, olallieberry, Oregon evergreen berry, phenomenalberry, rangerberry, ravenberry, rossberry, Shawnee blackberry, and varieties and/or hybrids of these).
Broccoli | Broccoli, chinese broccoli (gia lon, white flowering broccoli).
Cabbage | Cabbage, Chinese cabbage (tight-heading varieties only).
Caneberry | Rubus spp. (including blackberry); Rubus caesius (youngberry); Rubus loganbaccus (loganberry); Rubus idaeus (red and black raspberry); cultivars, varieties, and/or hybrids of these.
Celery | Celery, Florence fennel (sweet anise, sweet fennel, finochio) (fresh leaves and stalks only).
Cherry | Cherry, sweet, and cherry, tart.
Endive | Endive, escarole.
Fruit, citrus | Grapefruit, lemon, lime, orange, tangelo, tangerine, citrus citron, kumquat, and hybrids of these.
Garlic | Garlic, great headed; garlic, and serpent garlic.
Lettuce | Lettuce, head; and lettuce, leaf
Lettuce, head | Lettuce, head; crisphead varieties only
Lettuce, leaf | Lettuce, leaf; cos (romaine), butterhead varieties
Marjoram | Origanum spp. (includes sweet or annual marjoram, wild marjoram or oregano, and pot marjoram).
Melon | Muskmelon, including hybrids and/or varieties of Cucumis melo (including true cantaloupe, cantaloupe, casaba, Santa Claus melon, crenshaw melon, honeydew melon, honey balls, Persian melon, golden pershaw melon, mango melon, pineapple melon, snake melon); and watermelon, including hybrids and/or varieties of (Citrullus spp.).
Muskmelon | Cucumis melo (includes true cantaloupe, cantaloupe, casaba, Santa Claus melon, crenshaw melon, honeydew melon, honey balls, Persian melon, golden pershaw melon, mango melon, pineapple melon, snake melon, and other varieties and/or hybrids of these.)
Onion | Bulb onion; green onion; and garlic.
Onion, bulb | Bulb onion; garlic; great headed garlic; serpent garlic; Chinese onion; pearl onion; potato onion; and shallot, bulb.
Onion, green | Green onion; lady's leek; leek; wild leek; Beltsville bunching onion; fresh onion; tree onion, tops; Welsh onion; and shallot, fresh leaves.
Peach | Peach, nectarine
Pea | Cajanus cajan (includes pigeon pea); Cicer spp. (includes chickpea and garbanzo bean); Lens culinaris (lentil); Pisum spp. (includes dwarf pea, garden pea, green pea, English pea, field pea, and edible pod pea). [Note: A variety of pesticide tolerances have been previously established for pea and/or bean. Chickpea/garbanzo bean is now classified in both the bean and the pea categories. For garbanzo bean/chickpea only, the highest established pea or bean tolerance will apply to pesticide residues found in this commodity.]
Pea, dry | All peas in dry form only.
Pea, succulent | All peas in succulent form only.
Pepper | All varieties of pepper including pimento and bell, hot, and sweet pepper.
Radish, oriental, roots | Raphanus sativus var. longipinnatus (roots and tops), including Chinese or Japanese radish (both white and red), winter radish, daikon, lobok, lo pak, and other cultivars and/or hybrids of these.
Radish, oriental, tops) | Raphanus sativus var. longipinnatus (roots and tops), including Chinese or Japanese radish (both white and red), winter radish, daikon, lobok, lo pak, and other cultivars and/or hybrids of these.
Rapeseed | Brassica napus, B. campestris, and Crambe abyssinica (oilseed-producing varieties only which include canola and crambe.)
Raspberry | Rubus spp. (including bababerry; black raspberry; blackcap; caneberry; framboise; frambueso; himbeere; keriberry; mayberry; red raspberry; thimbleberry; tulameen; yellow raspberry; and cultivars, varieties, and/or hybrids of these).
Sorghum, grain, grain | Sorghum spp. [sorghum, grain, sudangrass (seed crop), and hybrids of these grown for its seed].
Sorghum, forage, stover | Sorghum spp. [sorghum, forage; sorghum, stover; sudangrass, and hybrids of these grown for forage and/or stover.
Squash | Pumpkin, summer squash, and winter squash.
Sugar apple | Annona squamosa L. (sugar apple, sweetsop, anon), and its hybrid A. squamosa L. x A. cherimoya M. (atemoya). Also A. reticulata L. (true custard apple).
Squash, summer | Fruits of the gourd (Cucurbitaceae) family that are consumed when immature, 100% of the fruit is edible either cooked or raw, once picked it cannot be stored, has a soft rind which is easily penetrated, and if seeds were harvested they would not germinate; e.g., Cucurbita pepo (i.e., crookneck squash, straightneck squash, scallop squash, and vegetable marrow); Lagenaria spp. (i.e., spaghetti squash, hyotan, cucuzza); Luffa spp. (i.e., hechima, Chinese okra); Momordica spp. (i.e., bitter melon, balsam pear, balsam apple, Chinese cucumber); Sechium edule (chayote); and other cultivars and/or hybrids of these.
Sweet potato | Sweet potato, yam.
Tangerine | Tangerine (mandarin or mandarin orange); tangelo, tangor, and other hybrids of tangerine with other citrus.
Tomato | Tomato, tomatillo.
Turnip tops or turnip greens | Broccoli raab (raab, raab salad), hanover salad, turnip tops (turnip greens).
Wheat | Wheat, triticale.

* * * * *

3. Part 180 is further amended as follows:

In Section | In paragraph | Remove the term | Add alphabetically the term
180.111 | (a)(1) table | Date | Date, dried fruit
180.111 | (a)(1) table | Grass | Grass, forage
180.111 | (a)(1) table | Hop | Hop, dried cones
180.111 | (a)(1) table | Lupine, seed | Lupin, seed
180.111 | (a)(1) table | Peavine, hay | Pea, field, hay
180.111 | (a)(1) table | Shallots | Shallot, bulb
180.117 | table | Bean, castor | Castorbean, seed
180.121 | (e) table | Beet (with or without tops) | Beet, garden, roots
180.121 | (e) table | Rutabagas (with or without tops) | Rutabaga, roots
180.121 | (e) table | Turnip (with or without tops) | Turnip, roots
180.122 | (a) table | Sorghum | Sorghum, grain, grain
180.153 | (c) table | Potato, sweet | Sweet potato, roots
180.154 | (a) table | Alfalfa | Alfalfa, forage
180.154 | (a) table | Birdfoot trefoil | Trefoil, forage
180.154 | (a) table | Clover | Clover, forage
180.173 | (a) table | Cattle, meat (fat basis) | Cattle, meat
180.176 | (a) table | Banana, pulp (no peel) | Banana, pulp
180.176 | (a) table | Corn grain (except popcorn grain) | Corn, field, grain
180.176 | (a) table | Rye, milled feed fraction | Rye, bran
180.176 | (a) table | Wheat, milled feed fractions | Wheat, milled byproducts
180.205 | (a) table | Cacao bean | Cacao bean, bean
180.205 | (a) table | Guar | Guar, seed
180.215 | (a)(1) table | Hop | Hop, dried cones
180.253 | (a) table | Grass, Bermuda | Bermudagrass, forage
180.253 | (a) table | Pea, vines | Pea, field, vines
180.288 | (a) table | Corn, forage | Corn, field, forage
180.364 | (a) table | Cacao bean | Cacao bean, bean
180.364 | (a) table | Coffee, bean | Coffee, bean, green
180.364 | (a) table | Date | Date, dried fruit
180.368 | (a)(2) table | Garlic, bulb | Garlic
180.379 | (a)(1) table | English walnut | Walnut
180.381 | (a) table | Date | Date, dried fruit
180.399 | (a)(1) table | Bean, dried, vine hay | Cowpea, hay
180.399 | (c) table | Chinese mustard | Mustard greens
180.408 | (a) table | Beet, garden | Beet, garden, roots
180.411 | (c)(2) table | Coffee, bean | Coffee, bean, green
180.414 | (a)(1) table | Garlic, bulb | Garlic
180.419 | (a)(2) table | Oat milling fractions (except flour) | Oat, groats/rolled oats
180.420 | (c) table | Hop | Hop, dried cones
180.428 | (a)(1) table | Grass, fodder | Grass, straw
180.431 | (a) table | Oat, milled fractions (except flour) | Oat, groats/rolled oats
180.435 | (a)(1) table | Cotton, oil | Cotton, refined oil
180.436 | (a)(1) table | Vegetable, leafy greens, except Brassica, group 4 | Vegetable, leafy, except brassica, group 4
180.438 | (a)(1) table | Corn, field, grain, flour | Corn, field, flour
180.438 | (a)(2) table | Corn, field, grain, flour | Corn, field, flour
180.448 | (a) table | Hop | Hop, dried cones
180.450 | (a) table | Sorghum, forage, hay | Sorghum, forage
180.466 | (a) table | Cotton, oil | Cotton, refined oil
180.474 | (a)(1) table | Peach (includes nectarine) | Peach
180.498 | (a)(2) table | Horseradish, roots | Horseradish
180.515 | (a) table | Cacao | Cacao bean, bean
180.515 | (a) table | Coffee | Coffee, bean, green
180.515 | (a) table | Date | Date, dried fruit
180.515 | (a) table | Grain, cereal, forage (excluding corn and sorghum) | Grain, cereal, forage, fodder and straw group 16, except corn and sorghum; forage
180.515 | (a) table | Kava, Kava | Kava, roots
180.515 | (a) table | Mulberry, Indian | Noni
180.515 | (a) table | Soursop, group | Soursop
180.515 | (a) table | Tea | Tea, dried
180.515 | (a) table | Wasabia, roots | Wasaba, roots
180.516 | (a) table | Peanut, meat (hulls removed) | Peanut
180.516 | (a) table | Yam, true | Yam, true, tuber
180.564 | (a) table | Soybean, aspirated grain fractions | Grain, aspirated fractions
180.565 | (a) table | Coffee \1\ | Coffee, bean, green \1\
180.565 | (a) table | Soybean, aspirated grain fractions | Grain, aspirated fractions
180.567 | (a)(2) table | Potato, tuber | Potato
180.568 | (a) table | Garlic (bulb) | Garlic
180.573 | (a)(1) table | Soybean, aspirated grain fraction | Grain, aspirated fractions
180.575 | (a)(1) table | Coffee, postharvest | Coffee, bean, roasted bean, postharvest
180.579 | (a)(1) table | Garlic, bulb | Garlic
180.582 | (a)(1) table | Vegetable, legume, edible podded, subgroup | Vegetable, legume, edible podded, subgroup 6A
180.584 | (a) table | Hop¹ | Hop, dried cones¹
180.615 | (d) table | Wheat, grain, milled byproducts | Wheat, milled byproducts

§ 180.2003 [Amended]

4. Section 180.2003 is amended by revising the term “eggs” to read “egg” in paragraphs (a) and (b).

[FR Doc. E8-24027 Filed 10-9-08; 8:45 am]

BILLING CODE 6560-50-S